DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on September 19, 2008, vol. 73, no. 183, page 54448-54449. The FAA would amend the regulations governing flight data recorders to increase the number of digital flight data recorder parameters for certain Boeing airplanes.

DATES: Please submit comments by January 5, 2009.

FOR FURTHER INFORMATION CONTACT: Carla Mauney at Carla.Mauney@faa.gov.

SUPPLEMENTARY INFORMATION:

Federal Aviation Administration (FAA)

Title: Revisions to Digital Flight Data Recorder Regulations for Boeing 737 Airplanes and All Part 125 Airplanes.

Type of Request: Reinstatement, without change, of a previously approved Collection.

OMB Control Number: 2120-0616.

Form(s): There are no FAA forms associated with this collection.

Affected Public: An estimated 2,960 Respondents.

Frequency: This information is collected on occasion.

Estimated Average Burden per Response: This is a passive information collection activity. Responses are recorded automatically in the aircraft's digital flight data recorder.

Estimated Annual Burden Hours: An estimated 1 hour annually.

Abstract: The FAA would amend the regulations governing flight data recorders to increase the number of digital flight data recorder parameters for certain Boeing airplanes. This change is based on safety recommendations from the National Transportation Safety Board following its investigations of two accidents and several incidents involving 737s.

ADDRESSES: Interested persons are invited to submit written comments on the proposed information collection to the Office of Information and Regulatory Affairs, Office of Management and Budget. Comments should be addressed to the attention of the Desk Officer, Department of Transportation/(FAA), and sent via electronic mail to oira_submission@omb.eop.gov, or faxed to (202) 395-6974, or mailed to the Office of Information and Regulatory Affairs, Office of Management and Budget, Docket Library, Room 10102, 725 17th Street, NW., Washington, DC 20503. Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on November 24, 2008.
Carla Mauney,
FAA Information Collection Clearance Officer, IT Enterprises Business Services Division, AES-200.

[FR Doc. E8-28510 Filed 12-4-08; 8:45 am]

BILLING CODE 4910-13-M